DEPARTMENT OF THE TREASURY

Submission for OMB Review; Comment Request

September 5, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 11, 2007 to be assured of consideration.

Federal Consulting Group

OMB Number: 1505-xxxx.

Type of Review: New collection.

Title: Questionnaire for Telephone Excise Tax Refund (TETR) Non Filers—Business.

Description: The Treasury Inspector General for Tax Administration (TIGTA), as part of its Fiscal Year 2008 Audit Plan, will interview a valid sample of business taxpayers who did not claim the Telephone Excise Tax Refund (TETR) on their Calendar Year 2006 business tax returns. The interview will be conducted using a set of questions designed to elicit the reasons or rationale why the contacted taxpayers did not claim the TETR. The overall purpose for the interviews is to collect sufficient data that can be analyzed to determine what actions, if any, the Internal Revenue Service should now take to further advertise the availability of the one-year credit to business taxpayers who may wish to file an amended tax return.

Respondents: Business and other for-profit institutions.

Estimated Total Reporting Burden: 64 hours.

Clearance Officer: Joseph Ananka, (202) 622-5964, 1125 15th Street, NW., Room 700 A, Washington, DC 20005.

OMB Reviewer: Alexander T. Hunt (202) 395-7316, Office of Management and Budget, Room 10235, New Executive Office Building, Washington, DC 20503.

Robert Dahl,
Treasury PRA Clearance Officer.

[FR Doc. E7-17860 Filed 9-10-07; 8:45 am]

BILLING CODE 4811-37-P